DEPARTMENT OF HOMELAND SECURITY

Coast Guard

33 CFR Part 117

[Docket No. USCG-2017-0532]

Drawbridge Operation Regulation; Back River, Barter's Island, ME

AGENCY: Coast Guard, DHS.

ACTION: Notice of deviation from drawbridge regulation.

SUMMARY: The Coast Guard has issued a temporary deviation from the operating schedule that governs the Maine Department of Transportation (Barter's Island) Highway Bridge over the Back River, mile 4.6, between Barter's Island and Hodgdon Island, Maine. This deviation is necessary to conduct geotechnical borings needed to design a new bridge. This deviation allows the bridge to be closed to vessel traffic for three days.

DATES: This deviation is effective without actual notice from June 20, 2017 through 5:30 p.m. on June 14, 2017. For the purposes of enforcement, actual notice will be used from June 15, 2017, until June 20, 2017.

ADDRESSES: The docket for this deviation, USCG-2017-0532, is available at http://www.regulations.gov. Type the docket number in the “SEARCH” box and click “SEARCH”. Click on Open Docket Folder on the line associated with this deviation.

FOR FURTHER INFORMATION CONTACT: If you have questions on this temporary deviation, call or email Jeffrey Stieb; Bridge Management Specialist, First Coast Guard District, telephone 617-223-8364, email Jeffrey.D.Stieb@uscg.mil.

SUPPLEMENTARY INFORMATION:

The bridge owner, State of Maine Department of Transportation (Maine DOT), requested a temporary deviation from the normal operating schedule of the Maine Department of Transportation (Barter's Island) Highway Bridge, mile 4.6, across the Back River between Barter's Island and Hodgdon Island, Maine. The drawbridge navigation span has a vertical clearance of six feet at mean high water in the closed position. The existing bridge operating regulations are found at 33 CFR 117.523. The approved temporary deviation allows the bridge to remain closed for vessel traffic between the hours of 7 a.m. through 5:30 p.m. from June 12 through June 14.

The waterway is transited by fishing and sailing vessels of various sizes. For the last three years, the bridge averaged less than three openings a day during the month of June. Maine DOT contacted the primary stakeholders, none of which objected to the deviation. Vessels able to pass through the bridge in the closed position may continue to do so at any time. Vessels have the option of going around the North Side of Barter's Island to reach the Sheepscot River. During the hours of deviation the bridge will not be able to open for emergencies.

The Coast Guard will inform the users of the waterway through our Local Notice and Broadcast Notice to Mariners of the change in operating schedule so that vessel operators can arrange their transits to minimize any impact caused by the temporary deviation.

In accordance with 33 CFR 117.35(e), the drawbridge must return to its regular operating schedule immediately at the end of the effective period of this deviation. This deviation from the operating regulations is authorized under 33 CFR 117.35.

Dated: June 15, 2017.
C.J. Bisignano,
Supervisory Bridge Management Specialist, First Coast Guard District.

[FR Doc. 2017-12780 Filed 6-19-17; 8:45 am]

BILLING CODE 9110-04-P